FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 25, 2008.

A. Federal Reserve Bank of Chicago (Burl Thornton, Assistant Vice President) 230 South LaSalle Street, Chicago, Illinois 60690-1414:

1. John B. Scheumann, Lafayette, Indiana, individually and as trustee of the John B. Scheumann Grantor Retained Annuity Trust dated April 20, 2004, and the John B. Scheumann Grantor Retained Annuity Trust dated April 20, 2004, and together with the John B. Scheumann Trust dated December 27, 2002, and June M. Scheumann, Lafayette, Indiana, as trustee of the John B. Scheumann Trust dated December 27, 2002, as a group acting in concert to acquire voting shares of Lafayette Community Bancorp, and thereby indirectly acquire voting shares of Lafayette Community Bank, both of Lafayette, Indiana.

Board of Governors of the Federal Reserve System, June 5, 2008.
Robert deV. Frierson,
Deputy Secretary of the Board.

[FR Doc. E8-12966 Filed 6-9-08; 8:45 am]

BILLING CODE 6210-01-S